Proclamation 8526 of May 20, 2010

National Maritime Day, 2010

By the President of the United States of America

A Proclamation

Even before our Nation declared independence, our forebears recognized the importance of merchant ships and seafarers to our economic and national security. Since 1775, America’s maritime fleet has risen to the challenges before them and worked to meet our country’s needs in times of peace and war alike. On National Maritime Day, we recognize the men and women of the United States Merchant Marine for their contributions to America’s leadership in the global marketplace, and to our security.

Civilian mariners and their ships have played an important role in equipping our military forces at sea in national conflicts. During World War II, they executed the largest sealift the world had ever known, and thousands gave their lives to help convoys with desperately needed supplies reach our troops. Their service to our Nation continues today. Merchant mariners support military operations in Iraq and Afghanistan, as well as humanitarian missions, including the delivery of supplies to Haiti following this year’s devastating earthquake.

The United States Merchant Marine also shepherds the safe passage of American goods. They carry our exports to customers around the world and support the flow of domestic commerce on our maritime highways. They help strengthen our Nation’s economy; bolster job-creating businesses; and, along with the transportation industry, employ Americans on ships and tugs, and in ports and shipyards. Today, we pay tribute to the United States Merchant Marine, and we honor all those whose tireless work is laying a foundation for growth, prosperity, and leadership in the 21st century.

The Congress, by a joint resolution approved May 20, 1933, has designated May 22 of each year as “National Maritime Day,” and has authorized and requested the President to issue annually a proclamation calling for its appropriate observance.

NOW, THEREFORE, I, BARACK OBAMA, President of the United States of America, do hereby proclaim May 22, 2010, as National Maritime Day. I call upon the people of the United States to mark this observance with appropriate activities, and I encourage all ships sailing under the American flag to dress ship on that day.

IN WITNESS WHEREOF, I have hereunto set my hand this twentieth day of May, in the year of our Lord two thousand ten, and of the Independence of the United States of America the two hundred and thirty-fourth.

[FR Doc. 2010-12756

Filed 5-25-10; 8:45 am]

Billing code 3195-W0-P